DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 20, 2009.

Interested persons are invited to submit written comments regarding the subject matter of the investigations to the Director, Division of Trade Adjustment Assistance, at the address shown below, not later than November 20, 2009.

The petitions filed in this case are available for inspection at the Division of Trade Adjustment Assistance, Employment and Training Administration, U.S. Department of Labor, Room N-5428, 200 Constitution Avenue, NW., Washington, DC 20210.

Signed at Washington, DC, this 30th day of October 2009.
Richard Church,
Certifying Officer, Division of Trade Adjustment Assistance.

Appendix—TAA Petitions Instituted Between 10/5/09 and 10/9/09
TA-W | Subject firm (petitioners) | Location | Date of institution | Date of petition
72490 | Panduit Corporation., (Comp) | Tinley Park, IL | 10/05/09 | 09/29/09
72491 | Commerce Energy, Inc., (Wkrs) | Costa Mesa, CA | 10/05/09 | 10/02/09
72492 | Adams Granite Company, Inc., (Union) | Barre, VT | 10/05/09 | 10/02/09
72493 | Ananke, Inc., (Wkrs) | Providence, RI | 10/05/09 | 10/02/09
72494 | EDS/Hewlett Packard Enterprise Services, (Wkrs) | Miramar, FL | 10/05/09 | 10/02/09
72495 | ATI Allegheny Ludlum Corporation, (union) | New Castle, IN | 10/05/09 | 10/02/09
72496 | Experian ,(Wkrs) | Schaumburg, IL | 10/06/09 | 10/05/09
72497 | Utah Stamping Company, (Wkrs) | Clearfield, UT | 10/06/09 | 10/05/09
72498 | HSBC Finance, (State) | Mettawa, IL | 10/06/09 | 09/21/09
72499 | Hamilton Fairfield Dodge Jeep, (Comp) | Hamilton, OH | 10/06/09 | 09/25/09
72500 | Hardinge, Inc., (Wkrs) | Elmira, NY | 10/06/09 | 09/29/09
72501 | P.C.C. Airfoils, Inc., (Wkrs) | Crooksville, OH | 10/06/09 | 10/01/09
72502 | Burke Hosiery Mills, Inc., (Comp) | Hickory, NC | 10/06/09 | 09/28/09
72503 | Sycamore Networks, Inc., (Wkrs) | Chelmsford, MA | 10/06/09 | 09/25/09
72504 | Penske Logistics, LLC, (union) | Spring Hill, TN | 10/06/09 | 10/02/09
72505 | SEH America, Inc., (wrks) | Vancouver, WA | 10/06/09 | 10/02/09
72506 | GHT Craft, (wrks) | Grand Rapids, MI | 10/06/09 | 10/05/09
72507 | Cypress Semi Conductor, (wrks) | San Jose, CA | 10/06/09 | 10/05/09
72508 | American Axle & Manufacturing, (wrks) | Detroit, MI | 10/06/09 | 09/29/09
72509 | Ametek MCG, Inc., (State) | New Ulm, MN | 10/06/09 | 10/05/09
72510 | Jeld-Wen Millwork Distribution, (Comp) | Wilkesboro, NC | 10/06/09 | 10/02/09
72511 | Durbin Industrial Valve, Inc., (Wkrs) | Akron, OH | 10/07/09 | 09/21/09
72512 | Hewlett Packard, (Wkrs) | Cupertino, CA | 10/07/09 | 09/30/09
72513 | Kaiser Foundation Hospitals, (Wkrs) | Pasadena, CA | 10/07/09 | 09/26/09
72514 | Metal Creations, (Comp) | High Point, NC | 10/07/09 | 10/06/09
72515 | Precision Custom Coating, (State) | Totowa, NJ | 10/07/09 | 10/06/09
72516 | Pheonix Engineering Corporation, (Wkrs) | Baldwin, WI | 10/07/09 | 10/05/09
72517 | American Institute of Physics, (Comp) | Melville, NY | 10/07/09 | 09/30/09
72518 | Wilson Tool International, (State) | White Bear Lake, MN | 10/07/09 | 10/06/09
72519 | EDS, an HP Company, (Wkrs) | Plano, TX | 10/07/09 | 10/05/09
72520 | Precision Castparts Corps (PCC), (wrks) | Crooksville, OH | 10/07/09 | 10/02/09
72521 | GlaxoSmithKline, (wrks) | Durham, NC | 10/07/09 | 10/06/09
72522 | Glass and Glazing Forensics, Inc., (wrks) | Troy, MI | 10/07/09 | 10/06/09
72523 | Warner Automotive Group, Inc, (comp) | Tiffin, OH | 10/07/09 | 10/02/09
72524 | Erie Engineering/Automation, (wrks) | Clinton Township, MI | 10/07/09 | 10/01/09
72525 | Channellock, Inc., (Comp) | Meadville, PA | 10/07/09 | 10/06/09
72526 | Hewlett Packard (HP), (state) | Fort Collins, CO | 10/07/09 | 10/06/09
72527 | Saturn of Green Bay Inc., (Wkrs) | Green Bay, WI | 10/08/09 | 10/06/09
72528 | JW Kitko & Sons Wood Products, Inc., (Wkrs) | Glen Hope, PA | 10/08/09 | 10/06/09
72529 | Celanese, (Wkrs) | Pampa, TX | 10/08/09 | 10/05/09
72530 | PTC Alliance, (Union) | Jane Lew, WV | 10/08/09 | 10/07/09
72531 | Riley Power, Inc., (union) | Erie, PA | 10/08/09 | 10/02/09
72532 | Lower Columbia Head & Neck Associates, P.S., (Comp) | Longview, WA | 10/08/09 | 10/01/09
72533 | Ensign United States Drilling Company, (Wkrs) | Denver, CO | 10/08/09 | 10/07/09
72534 | Dura-Bar Metal Services, (Wkrs) | Woodstock, IL | 10/09/09 | 09/25/09
72535 | Dura-Bar, (Wkrs) | Woodstock, IL | 10/09/09 | 09/25/09
72536 | Hanesbrands, Inc., (Comp) | Winston-Salem, NC | 10/09/09 | 10/04/09
72537 | McQuay International, (Wkrs) | Verona, VA | 10/09/09 | 10/07/09
72538 | Aerotek, (Comp) | Eureka, MO | 10/09/09 | 10/07/09
72539 | Sylmark, Inc., (State) | Los Angeles, CA | 10/09/09 | 10/08/09
72540 | Komatsu Forest, LLC, (Wkrs) | Shawano, WI | 10/09/09 | 09/25/09
72541 | TriMark Corporation, (Wkrs) | New Hampton, IA | 10/09/09 | 10/02/09
72542 | Cellular Expres, Inc., dba Boston Communications Group, (Comp) | Bedford, MA | 10/09/09 | 10/08/09
72543 | Owens Corning Sales, LLC, (Comp) | Charleston, WV | 10/09/09 | 10/08/09
72544 | Sonoco Products Company, (Comp) | Devens, MA | 10/09/09 | 10/06/09
72545 | Century Dodge, Chrysler Jeep, (Wkrs) | Wentzville, MO | 10/09/09 | 09/01/24
72546 | Carlisle Tire and Wheel, (Wkrs) | Carlisle, PA | 10/09/09 | 10/07/09
72547 | Arnold Gauge, (Comp) | Fairfield, OH | 10/09/09 | 10/06/09
72548 | AGC Automotive of Americas Kentucky, (Wkrs) | Elizabethtown, KY | 10/09/09 | 10/07/09
72549 | Charming Shoppes of Delware, Inc., (Comp) | Bensalem, PA | 10/09/09 | 10/07/09
72550 | The College House, Inc., (Wkrs) | Richmond, VA | 10/09/09 | 10/02/09
72551 | American Tube and Paper Company, (Union) | Totowa, NJ | 10/09/09 | 10/07/09
72552 | Courtesy Chevrolet, (State) | Bastrop, LA | 10/09/09 | 10/07/09
72553 | Intel Corporation, (Wkrs) | Chandler, AZ | 10/09/09 | 09/29/09
72554 | General Motors Corporation, (Union) | Pontiac, MI | 10/09/09 | 10/06/09
72555 | Global Heating Solutions, Inc., (Union) | Allegan, MI | 10/09/09 | 10/06/09
72556 | Sonus Networks, Inc., (Wkrs) | Westford, MA | 10/09/09 | 10/05/09
72557 | Johnson Controls, Inc., (Wkrs) | Kansas City, MO | 10/09/09 | 09/27/09

[FR Doc. E9-27012 Filed 11-9-09; 8:45 am]

BILLING CODE 4510-FN-P